ENVIRONMENTAL PROTECTION AGENCY

[ER-FRL-6659-2]

Environmental Impact Statements and Regulations; Availability of EPA Comments

Availability of EPA comments prepared pursuant to the Environmental Review Process (ERP), under section 309 of the Clean Air Act and section 102(2)(c) of the National Environmental Policy Act, as amended. Requests for copies of EPA comments can be directed to the Office of Federal Activities at (202) 564-7167. An explanation of the ratings assigned to draft environmental impact statements (EISs) was published in the Federal Register dated April 2, 2004 (69 FR 17403).

Draft EISs

ERP No. D-DOD-A10076-00 Rating LO, Programmatic—Missile Defense Agency, To Incrementally Develop, Test, Deploy and Plan for Decommissioning of the Ballistic Missile Defense System (BMDS).

Summary: EPA has no objections to the proposed action, but did request clarification on the criteria that will be used in making future decisions for site-specific locations. EPA also recommended that the EIS discuss the existence of multiple species habitat conservation planning efforts that are proximate to DoD lands. Finally, EPA recommended that the EIS confirm the validity of information of material incorporated into the PEIS by reference.

ERP No. D-FAA-D51050-PA Rating EC1, Philadelphia International Airport Project, Proposed Runway 17-35 Extension Project, Funding, NPDES Permit and U.S. Army COE Section 404 Permit, Philadelphia, PA.

Summary: EPA expressed concern regarding impacts to wetlands, air quality, environmental justice, and sole source aquifer issues.

Final EISs

ERP No. F-COE-K39084-AZ, Va Shly'ay Akimel Salt River Ecosystem Restoration Feasibility Study, Increasing and Improving Native Vegetation, in Portions of the Salt River Pima-Maricopa Indian Community (SRPMIC) and the City of Mesa, Maricopa County, AZ.

Summary: EPA commended the Corps for this valuable aquatic resources restoration effort. EPA also expressed continued concerns regarding the lack of impact analysis of the proposed Cultural Center and suggested that the Record of Decision include a commitment for the development of a water quality program to address any elevated levels of pollutants identified during storm water monitoring, including an assessment of impacts related to treatment facilities or structures.

ERP No. F-FAA-D52002-WV, Adoption—Aircraft Conversion for the 167th Air Wing (167 AW) of the West Virginia Air National Guard, Converting C-130H Transport Aircraft to the Larges C-5 Transport Aircraft, Acquisition of Land via Lease, and Construction of Facilities on existing and acquired Parcel, Berkeley County, WV.

Summary: While many of EPA's previous concerns were resolved, EPA continues to express concern due to noise and safety issues related to the closure of Runway 17/35.

ERP No. F-FAA-F51049-IN, Gary/Chicago International Airport Master Plan Development Including Runway Safety Area Enhancement/Extension of Runway 12-30, Funding, Lake County, IN.

Summary: While most of EPA's comments and concerns have been satisfactorily addressed in the FEIS, EPA continues to have concerns with the adequacy of the EIS documentation and proposed wetland mitigation. EPA recommends FAA provide additional information and commitments for wetland mitigation.

ERP No. FS-BLM-K36197-NV, Clark County Regional Flood Control Master Plan, Updated and Replaced the Original 1991 FEIS, Facilities Construction and Operation, Right-of-Way Approval and U.S. Army COE Section 404 Permit, Clark County, NV.

Summary: EPA urged BLM to consider opportunities to enhance, restore, and protect waters of the U.S. and wildlife habitat on site-specific projects over the life of the plan.

Dated: December 27, 2004.
Ken Mittelholtz,
Environmental Protection Specialist, Office of Federal Activities.

[FR Doc. 04-28603 Filed 12-29-04; 8:45 am]

BILLING CODE 6560-50-P